COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List services to be furnished by nonprofit agencies employing persons who are blind or have other severe disabilities.

EFFECTIVE DATE: July 29, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On April 12, April 19, May 3, and May 10, 2002, the Committee for Purchase From People Who Are Blind or Severely Disabled published notice (67 FR 17966, 19392, 22398, and 31765) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.Accordingly, the following services are added to the Procurement List:

Services

Service Type/Location: Administrative Support, Service School Command, Great Lakes, Illinois.

NPA: GWS, Inc., Waukegan, Illinois.

Contract Activity: Fleet and Industrial Supply Center Detachment Philadelphia.

Service Type/Location: Custodial Service, Veterans Affairs Nursing Home Care Unit, Pueblo, Colorado.

NPA: Pueblo Diversified Industries, Inc., Pueblo, Colorado.

Contract Activity: Department of Veterans Affairs, VA Medical Center, Denver, Colorado.

Service Type/Location: Food Service Attendant, Alabama Air National Guard, 226th Communication Group,Gadsden, Alabama.

NPA: Alabama Goodwill Industries, Inc., Birmingham, Alabama.

Contract Activity: Alabama Air National Guard, Gadsden, Alabama.

Service Type/Location: Grounds Maintenance, Environmental Protection Agency, Environmental Science Center, Fort Meade, Maryland.

NPA: Baltimore Association for Retarded Citizens, Inc., Baltimore, Maryland.

Contract Activity: Environmental Protection Agency, Philadelphia, Pennsylvania.

Service Type/Location: Janitorial/Custodial, Buildings 7680 and 428, Fort Polk, Louisiana.

NPA: Vernon Sheltered Workshop, Leesville, Louisiana.

Contract Activity: Directorate of Contracting, Fort Polk, Louisiana.

Service Type/Location: Janitorial/Custodial, 99th Regional Support Command Headquarters, Coraopolis, Pennsylvania.

NPA: Hancock County Sheltered Workshop, Weirton, West Virginia.

Contract Activity: 99th Regional Support Command.

This action does not affect current contracts awarded prior to the effective date of this addition or options that may be exercised under those contracts.

Sheryl D. Kennerly,
Director, Information Management.

[FR Doc. 02-16353 Filed 6-27-02; 8:45 am]

BILLING CODE 6353-01-P